DEPARTMENT OF HEALTH AND HUMAN SERVICES

Administration for Children and Families

Submission for OMB Review; Comment Request

Title: Office of Refugee Resettlement Individual Development (IDA) Program Post-Asset Acquisition Data Collection.

OMB No.: New Collection.

Description: In October 1999 the Administration for Children and Families (ACF), Office of Refugee Resettlement (ORR), began funding Individual Development Account (IDA) programs, a discretionary grant program authorized by Section 412(c)(1)(A) of the Immigration and Nationality Act (INA) (8 U.S.C. 1522(c)(1)(A)), for low-income refugees. IDAs are a tool that enable low-income families to save, build assets, and enter the financial mainstream. Since the inception of the ORR IDA Program, data have never been collected from the former refugee participants to assess how they are doing since they acquired their asset (i.e., home, small business, car, post-secondary education/vocational training/recertification, computer, or home renovation).

This report will be used to document the experiences of the refugees and their families since they acquired their asset. There is much to be learned from the experiences of IDA programs serving refugees. ORR has requested this report in order to document long-term program outcomes and understand what happens after a participant obtains his/her asset. The lessons drawn will not only have direct implications for ORR, but also for currently funded refugee IDA grantees. The broader asset field will also benefit from learning about the achievements and challenges of a program that serves refugees.

Respondents: Former ORR IDA participants who acquired an asset through the ORR IDA Program.

Former ORR IDA grantee agencies will also assist in locating the former IDA participants.

Annual Burden Estimates
Instrument | Number of respondents | Number of responses per respondent | Average burden hours per response | Total burden hours
Former IDA Participants Data | 200 | 1 | .30 | 60
Former IDA Grantee Agencies | 48 | 1 | 10 | 480

Estimated Total Annual Burden Hours: 540.

Additional Information: Copies of the proposed collection may be obtained by writing to the Administration for Children and Families, Office of Administration, Office of Information Services, 370 L'Enfant Promenade, SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: March 14, 2008.
Janean Chambers,
Reports Clearance Officer.

[FR Doc. E8-5656 Filed 3-20-08; 8:45 am]

BILLING CODE 4184-01-M